DEPARTMENT OF THE INTERIOR

National Park Service

[NPS-WASO-NRNHL-23327; PPWOCRADI0, PCU00RP14.R50000]

National Register of Historic Places; Notification of Pending Nominations and Related Actions

AGENCY: National Park Service, Interior.

ACTION: Notice.

SUMMARY: The National Park Service is soliciting comments on the significance of properties nominated before April 22, 2017, for listing or related actions in the National Register of Historic Places.

DATES: Comments should be submitted by June 22, 2017.

ADDRESSES: Comments may be sent via U.S. Postal Service and all other carriers to the National Register of Historic Places, National Park Service, 1849 C St. NW., MS 7200E, Washington, DC 20240.

SUPPLEMENTARY INFORMATION: The properties listed in this notice are being considered for listing or related actions in the National Register of Historic Places. Nominations for their consideration were received by the National Park Service before April 22, 2017. Pursuant to section 60.13 of 36 CFR part 60, written comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State Historic Preservation Officers:

ARIZONA

Pima County

Warren Bisbee Bus Line No. 8, 250 E. 36th St., Tucson, SG100001002

ARKANSAS

Ashley County

Bethel Cemetery, At the end of Bethel Rd., 3.5 mi. N. of the jct. of AR 52 & AR 53, Crossett vicinity, SG100001003

Craighead County

Home Ice Company, 700 Cate Ave., Jonesboro, SG100001005

Garland County

Hot Springs National Guard Armory, (New Deal Recovery Efforts in Arkansas MPS), 210 Woodbine St., Hot Springs, MP100001006

Independence County

Batesville Commercial Historic District (Boundary Increase II), 407, 409 & 417 Main St., Batesville, BC100001007

Johnson County

MacLean Hall, (World War II Home Front Efforts in Arkansas, MPS), 415 N. College Ave., Clarksville, MP100001008

Lawrence County

Scott Cemetery, 1/2 mi. S. of the jct. of AR 412 & AR 91, Walnut Ridge vicinity, SG100001009

Pulaski County

Gay Oil Company Building, 300 Broadway, Little Rock, SG100001011

Lake Nixon

18500 Cooper Orbit Rd., Little Rock, SG100001013

Martin Cemetery Historic Section

10900 I 30, Little Rock, SG100001014

Washington County

Fitzhugh, Vernon, House, 1551 E. Hope St., Fayetteville, SG100001015

Seagraves, Warren, House, 217 N. Oklahoma Way, Fayetteville, SG100001016

GEORGIA

Floyd County

Fairview School, 276 Padlock Mountain Rd., SW., Cave Spring, SG100001019

Oglethorpe County

Durham Place, 261 N. Main St., Maxeys, SG100001020

IDAHO

Ada County

Sonner—Osier Farmstead Historic District, 4130 W. Beacon Light Rd., Eagle vicinity, SG100001021

MINNESOTA

Hennepin County

Osseo Water Tower, 25 4th St., Osseo, SG100001023

Nobles County

Nobles County War Memorial Building, 407 12th St., Worthington, SG100001024

Ramsey County

Minnesota Mutual Life Insurance Company Building, 345 Cedar St., St. Paul, SG100001025

St. Louis County

Olcott Park Electric Fountain and Rock Garden (Federal Relief Construction in Minnesota, 1933-1943 MPS), NW., quadrant of Olcott Park, 9th St. N., & 9th Ave. N., Virginia, MP100001026

MISSISSIPPI

Adams County

Jackson, Wharlest and Exerlena, House, 13 Matthews St., Natchez, SG100001027

Hinds County

Mt. Olive Cemetery, 900 blk. of John R. Lynch St., Jackson, SG100001028

Neshoba County

Mt. Zion Methodist Church, 11191 Cty. Rd. 741, Philadelphia, SG100001029

Scott County

Hillsboro Methodist Church and Cemetery, Old Highway 35 N., Hillsboro, SG100001030

Walthall County

Mt. Moriah School, 149 Mt. Moriah Rd., Tylertown vicinity, SG100001031

Walthall County Training School, 181 Ginntown Rd., Tylertown, SG100001032

NEW MEXICO

Mora County

Guadalupita—Coyote Rural Historic District, Village of Guadalupita, parts of Guadalupita & Williams canyons & the Coyote Cr. Valley, between Guadalupita & Lucero, Guadalupita, SG100001034

NORTH DAKOTA

Ramsey County

Sons of Jacob Cemetery, 88th Ave. NE., ¼ mi. N. of 67th St. NE., Garske vicinity, SG100001035

SOUTH CAROLINA

Beaufort County

Fort Mitchell, 65 Skull Creek Dr., Hilton Head, SG100001036

Charleston County

Jackson Street Freedman's Cottages, 193-199 Jackson St., Charleston, SG100001037

TEXAS

Cameron County

Garcia, M.E. and Estela Cueto, House, 155 Calle Anacua, Brownsville, SG100001038

VIRGINIA

Chesterfield County

Fuqua Farm, 8700 Bethia Rd., Chesterfield, SG100001039

Essex County

Millers Tavern Rural Historic District, Roughly bounded by Richmond-Tappahannock Hwy., Howerton, Dunbrooke,, Latanes Mill & Midway Rds., Millers Tavern vicinity, SG100001040

Fairfax County

Lake Anne Village Center Historic District, North Shore Dr. & Washington Plaza W. & N., Reston vicinity, SG100001041

Franklin County

Boones Mill Depot, Digby Greene Rd. & Depot Dr., Boones Mill, SG100001042

Giles County

People's Bank of Eggleston, The, 181 Village St., Eggleston, SG100001043

Lancaster County

Grace Episcopal Church, 303 S. Main St., Kilmarnock, SG100001045

New Kent County

Moss Side, 8501 New Kent Hwy., New Kent (Court House) vicinity, SG100001046

Norfolk Independent City

Park Place Historic District (Boundary Increase), Roughly bounded by Hampton Blvd., 23rd St., Granby St. and 38th St., Norfolk (Independent City), BC100001047

Richmond Independent City

Ginter Park Historic District (Boundary Increase), Parts of Brook Rd., Seminary, Chamberlayne, Montrose, Moss Side & Noble Aves., Richmond (Independent City), BC100001048

Philip Morris Blended Leaf Complex Historic District, 2301 Maury St., Richmond (Independent City), SG100001049

Williamsburg Independent City

First Baptist Church, 727 Scotland St., Williamsburg (Independent City), SG100001050

WISCONSIN

Manitowoc County

LOOKOUT (schooner) Shipwreck, (Great Lakes Shipwreck Sites of Wisconsin MPS), 4.35 mi. NE. of Two Rivers in L. Michigan, Two Rivers vicinity, MP100001051

A request to move has been received for the following resource(s):

ARKANSAS

Columbia County

Ozmer House, Southern Arkansas University farm, US 82 Bypass, Magnolia vicinity, MV86003226

An additional documentation has been received for the following resource(s):

ARIZONA

Cochise County

Sacred Heart Church, 592 E. Safford St., Tombstone, AD02000032

Maricopa County

Coronado Neighborhood Historic District (Additional Documentation), Roughly bounded by Virginia Ave., Fourteenth St., McDowell Rd., and Seventh St., Phoenix, AD86000206

ARKANSAS

Pulaski County

Capitol View Neighborhood Historic District, Roughly bounded by Riverview Dr., Schiller St., W. 7th St. and Woodrow St., Little Rock, AD00000813

Governor's Mansion Historic District

Bounded by the Mansion grounds, 13th, Center, Gaines, and 18th Sts., Little Rock, AD78000620

MINNESOTA

Hennepin County

Warehouse Historic District, Roughly bounded by First Ave., Washington Ave., Sixth and Third Ave., Minneapolis, AD65003052

VIRGINIA

Henrico County

Malvern Hill, SE of jct. of Rtes. 5 and 156, Richmond vicinity, AD69000248

Nominations submitted by Federal Preservation Officers:

CALIFORNIA

Fresno County

Mono Trail Corridor Traditional Cultural Property, Address Restricted, Mono Hot Springs vicinity, SG100001017

The State Historic Preservation Officer reviewed the nomination and responded to the Federal Preservation Officer within 45 days of receipt of the nomination and supports listing the property in the National Register of Historic Places.

San Francisco County

Federal Office Building, 50 United Nations Plaza, San Francisco, SG100001018

The State Historic Preservation Officer reviewed the nomination and responded to the Federal Preservation Officer within 45 days of receipt of the nomination and supports listing the property in the National Register of Historic Places.

MONTANA

Yellowstone County

Huntley Project Office, 2291 2nd St. W., Ballantine, SG100001033

The State Historic Preservation Officer reviewed the nomination and responded to the Federal Preservation Officer within 45 days of receipt of the nomination and supports listing the property in the National Register of Historic Places.

WYOMING

Laramie County

United States Post Office and Court House, 2120 Capitol Ave., Cheyenne, SG100001052

The State Historic Preservation Officer reviewed the nomination and responded to the Federal Preservation Officer within 45 days of receipt of the nomination and supports listing the property in the National Register of Historic Places.

Authority: 60.13 of 36 CFR part 60

Dated: April 28, 2017.
J. Paul Loether,
Chief, National Register of Historic Places/National Historic Landmarks Program.

[FR Doc. 2017-11735 Filed 6-6-17; 8:45 am]

BILLING CODE 4312-52-P